DEPARTMENT OF VETERANS AFFAIRS

[OMB Control No. 2900—New (22-0803)]

Agency Information Collection Activities Under OMB Review

AGENCY: Veterans Benefits Administration, Department of Veterans Affairs.

ACTION: Notice.

SUMMARY: In compliance with the Paperwork Reduction Act (PRA) of 1995 (44 U.S.C. 3501-21), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before January 5, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-New (22-0803)]-” in any correspondence.

FOR FURTHER INFORMATION CONTACT: Denise McLamb, Initiative Coordination Service (005G1), Department of Veterans Affairs, 810 Vermont Avenue, NW., Washington, DC 20420, (202) 565-8374, fax (202) 565-7870 or e-mail denise.mclamb@mail.va.gov. Please refer to “OMB Control No. 2900-New (22-0803)].”

SUPPLEMENTARY INFORMATION: Title: Application for Reimbursement of Licensing or Certification Test Fees.

OMB Control Number: 2900-New (22-0803)].

Type of Review: Existing collection in use without an OMB control number.

Abstract: Claimants complete VA Form 22-0803 to request reimbursement of licensing or certification fees paid. An agency may not conduct or sponsor, and a person is not required to respond to a collection of information unless it displays a currently valid OMB control number.

The Federal Register Notice with a 60-day comment period soliciting comments on this collection of information was published on August 15, 2006 at page 46981.

Affected Public: Individuals or households.

Estimated Annual Burden: 1,590 hours.

Frequency of Response: On occasion.

Estimated Average Burden Per Respondents: 15 minutes.

Estimated Annual Responses: 6,361.

Dated: November 22, 2006.
By direction of the Secretary.
Cindy Stewart,
Program Analyst, Initiative Coordination Service.

[FR Doc. E6-20684 Filed 12-5-06; 8:45 am]

BILLING CODE 8320-01-P